ENVIRONMENTAL PROTECTION AGENCY

[FRL-7170-7]

Gulf of Mexico Program Management Committee Meeting

AGENCY: Environmental Protection Agency ( EPA).

ACTION: Notice of meeting.

SUMMARY: Under the Federal Advisory Act, Public Law 92463, EPA gives notice of a Meeting of the Gulf of Mexico Program (GMP) Management Committee (MC).

DATES: The Meeting will be held on Wednesday, May 8, 2002, from 1 p.m. to 5:30 p.m. and on Thursday, May 9, 2002, from 8 a.m. to 3 p.m.

ADDRESSES: The meeting will be held at the Embassy Suites Hotel, 315 Julia Street, New Orleans, Louisiana. (504-525-1993)

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda items will include: Presentation of MC Ad Hoc Workgroup recommendations on GMP performance, Louisiana Coastal Area Initiative presentation, Mercury in Gulf Fisheries follow-up, Invasive Species-Gulf Regional Panel Transition discussion, Lower Mississippi River Sub-basin Committee Presentation and FY 2002/FY 2003 Status of Projects Presentation.

The meeting is open to the public.

Dated: April 14, 2002.
Gloria D. Car,
Designated Federal Officer.

[FR Doc. 02-8954 Filed 4-11-02; 8:45 am]

BILLING CODE 6560-50-P